DEPARTMENT OF ENERGY

Federal Energy Regulatory Commission

Combined Notice of Filings #1

Take notice that the Commission received the following electric corporate filings:

Docket Numbers: EC18-135-000.

Applicants: 64KT 8me LLC.

Description: Second Supplement to August 9, 2018 Application for Authorization under Section 203 of the Federal Power Act, et al. of 64KT 8me LLC.

Filed Date: 9/18/18.

Accession Number: 20180918-5105.

Comments Due: 5 p.m. ET 9/25/18.

Docket Numbers: EC18-158-000.

Applicants: Arlington Valley, LLC.

Description: Application for Authorization Under Section 203 of the Federal Power Act, et al. of Arlington Valley, LLC.

Filed Date: 9/19/18.

Accession Number: 20180919-5158.

Comments Due: 5 p.m. ET 10/10/18.

Take notice that the Commission received the following exempt wholesale generator filings:

Docket Numbers: EG18-128-000.

Applicants: Cricket Valley Energy Center, LLC.

Description: Notice of Self-Certification of Exempt Wholesale Generator Status.

Filed Date: 9/19/18.

Accession Number: 20180919-5150.

Comments Due: 5 p.m. ET 10/10/18.

Take notice that the Commission received the following electric rate filings:

Docket Numbers: ER18-2455-000.

Applicants: Upper Peninsula Power Company.

Description: § 205(d) Rate Filing: Balancing Authority Area Operations Coordination Agreement to be effective 9/21/2018.

Filed Date: 9/20/18.

Accession Number: 20180920-5019.

Comments Due: 5 p.m. ET 10/11/18.

Docket Numbers: ER18-2456-000.

Applicants: Mid-Atlantic Interstate Transmission, LLC, PJM Interconnection, L.L.C.

Description: § 205(d) Rate Filing: MAIT submits ECSAs, Service Agreement Nos. 5006, 5007, 5008, 5009 and 5010 to be effective 11/20/2018.

Filed Date: 9/20/18.

Accession Number: 20180920-5029.

Comments Due: 5 p.m. ET 10/11/18.

Take notice that the Commission received the following electric reliability filings:

Docket Numbers: RD18-9-000.

Applicants: North American Electric Reliability Corp.

Description: Petition of the North American Electric Reliability Corporation for Approval of Proposed Reliability Standard PER-003-2 and Retirement of Reliability Standard PER-004-2.

Filed Date: 7/23/18.

Accession Number: 20180723-5234.

Comments Due: 5 p.m. ET 10/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2018.
Nathaniel J. Davis, Sr.,
Deputy Secretary.

[FR Doc. 2018-20893 Filed 9-25-18; 8:45 am]

BILLING CODE 6717-01-P